DEPARTMENT OF COMMERCE

Economic Development Administration

[Docket No.: 110705370-1511-02]

Request for Comments: Public Input for the Launch of the Strong Cities, Strong Communities Visioning Challenge

AGENCY: Economic Development Administration, U.S. Department of Commerce.

ACTION: Notice and request for comments; extending public comment deadline.

SUMMARY: On July 11, 2011, the Economic Development Administration (EDA) published a Federal Register notice requesting public input on the structure of the Strong Cities, Strong Communities Visioning Challenge (SC2 Pilot Challenge) (76 FR 40686). Due to significant interest in the agency's formulation of the anticipated Federal funding opportunity (FFO) announcement for the SC2 Pilot Challenge, EDA publishes this notice to extend the time frame for submission of public comments.

DATES: Comments must be received no later than 5 p.m. Eastern Time on September 7, 2011. Interested parties should submit comments in writing by e-mail or facsimile, as provided below under ADDRESSES.

ADDRESSES: Comments will continue to be submitted by any of the following methods:

• E-mail: lboswell@eda.doc.gov. Please state “Comment on SC2 Pilot Challenge” in the subject line of the e-mail.

• Facsimile: (202) 482-2838. Please state “Comment on SC2 Pilot Challenge” on the cover page.

To receive consideration, comments must be submitted through e-mail or facsimile. All submissions must reference “Comment on the SC2 Pilot Challenge.” As noted in the initial Federal Register notice (76 FR 40686), if you are addressing one of the questions listed under “Solicitation for Comments on the SC2 Pilot Challenge” in the July 11, 2011 notice, please note the number of the question to which you are responding. Do not include any information in your comment that you consider confidential or inappropriate for public disclosure.

FOR FURTHER INFORMATION CONTACT: Lynette Boswell, Performance and National Programs Division, Economic Development Administration, Department of Commerce, Room 7009, 1401 Constitution Avenue, NW., Washington, DC 20230.

SUPPLEMENTARY INFORMATION: President Obama recognized the importance of economically vibrant and prosperous cities, towns and regions to our national economy when he asserted that “strong cities are the building blocks of strong regions, and strong regions are essential for a strong America.” To create Federal-local synergies that will help strengthen economically distressed communities, the Administration has developed the SC2 Pilot Challenge. In the Federal Register notice published on July 11, 2011 (76 FR 40686), EDA requested public feedback on the structure of the SC2 Pilot Challenge to assist with the formulation of the FFO announcement for the Challenge. Due to significant interest in this initiative and to ensure stakeholders have ample time to comment, EDA is extending the deadline for the submission of comments from August 9, 2011, to September 7, 2011. Please see the July 11, 2011 notice and request for comments, and EDA's Web site at http://www.eda.gov for more information. Although EDA welcomes public comments on the structure of the SC2 Pilot Challenge, the agency specifically requests input on the effective use of authority to conduct prize competitions under the America Creating Opportunities to Meaningfully Promote Excellence in Technology, Education, and Science (COMPETES) Reauthorization Act of 2010 (Pub. L. 111-358 (2011)) as a tool to implement the SC2 Pilot Challenge.

Comments should be submitted to EDA as described in the ADDRESSES section of this notice. EDA will consider all comments submitted in response to this notice that are received by 5 p.m. Eastern Time on September 7, 2011, as referenced under DATES. All public comments (including faxed or e-mailed comments) submitted in response to this notice must be in writing and will be a matter of public record. All comments submitted will be available for public inspection and copying.

Dated: August 18, 2011.
John Fernandez,
Assistant Secretary for Economic Development, U.S. Department of Commerce.

[FR Doc. 2011-21618 Filed 8-23-11; 8:45 am]

BILLING CODE 3510-24-P